DEPARTMENT OF HOUSING AND URBAN DEVELOPMENT

[Docket No. FR-5415-N-02]

Notice of Availability: Notice of Funding Availability (NOFA) for Fiscal Year (FY) 2010 Housing Counseling Grant Program

AGENCY: Office of the Chief of the Human Capital Officer, HUD.

ACTION: Notice.

SUMMARY: HUD announces the availability on its website of the application information, submission deadlines, funding criteria, and other requirements for the FY2010 Housing Counseling Grant NOFA. Approximately $79 million is made available through this NOFA, by the Consolidated Appropriations Act, 2010 (Pub. L. 111-117, approved December 16, 2009), to support the delivery of a wide variety of housing counseling services to homebuyers, homeowners, low- and moderate-income renters and the homeless. The primary objectives of the program are to improve financial literacy, expand homeownership opportunities, improve access to affordable housing, and preventing foreclosure.

The notice providing information regarding the application process, funding criteria and eligibility requirements can be found using the Department of Housing and Urban Development agency link on the Grants.gov/Find Web site at http://www.grants.gov/search/agency.do. A link to Grants.gov is also available on the HUD Web site at http://www.hud.gov/offices/adm/grants/fundsavail.cfm. The Catalogue of Federal Domestic Assistance (CFDA) number for the Housing Counseling Program is 14.169. Applications must be submitted electronically through Grants.gov.

FOR FURTHER INFORMATION CONTACT: For information concerning the Housing Counseling Program, please contact Terri Gilyard-Ames, Program Support Division, Office of Single Family Housing, Office of Housing, at 202-402-3025. Questions regarding the FY2010 General Section should be directed to the Office of Departmental Grants Management and Oversight at 202-708-0667 (this is not a toll-free number) or the NOFA Information Center at 1-800-HUD-8929 (toll-free). Persons with speech or hearing impairments may access this telephone number via TTY by calling the toll-free Federal Information Relay Service during working hours at 800-877-8339.

Dated: July 26, 2010.
Barbara S. Dorf,
Director, Office of Departmental Grants, Management and Oversight, Office of the Chief of the Human Capital Officer.

[FR Doc. 2010-18906 Filed 7-30-10; 8:45 am]

BILLING CODE 4210-67-P